DEPARTMENT OF LABOR

Wage and Hour Division

29 CFR Part 570

Child Labor Regulations, Orders and Statements of Interpretation

CFR Correction

In Title 29 of the Code of Federal Regulations, Parts 500 to 899, revised as of July 1, 2011, on page 302, the section heading for § 570.65 is corrected to read as follows:

§ 570.65 [CORRECTED]

§ 570.65 Occupations involving the operation of circular saws, band saws, guillotine shears, chain saws, reciprocating saws, wood chippers, and abrasive cutting discs (Order 14).

[FR Doc. 2012-15868 Filed 6-26-12; 8:45 am]

BILLING CODE 1505-01-D